COMMISSION ON CIVIL RIGHTS

Notice of Public Meeting of the Washington Advisory Committee

AGENCY: U.S. Commission on Civil Rights

ACTION: Announcement of meeting.

SUMMARY: Notice is hereby given, pursuant to the provisions of the rules and regulations of the U.S. Commission on Civil Rights (Commission) and the Federal Advisory Committee Act (FACA) that a briefing of the Washington Advisory Committee (Committee) to the Commission will be held from 12:30 p.m.-5:30 p.m. (Pacific Time) on Monday, March 30, 2020. The purpose of the briefing is to receive testimony about voting rights with a felony conviction in the state of Washington.

DATES: The briefing will be held on Monday, March 30, 2020 from 12:30 p.m. to 5:30 p.m. PT.

LOCATION: Hilton Garden Inn, Seattle Downtown, 1821 Boren Avenue, Mt. Rainier Meeting Room, Seattle, WA 98101

FOR FURTHER INFORMATION CONTACT: Brooke Peery, Designated Federal Officer, (DFO) at bpeery@usccr.gov or (213) 894-3437.

SUPPLEMENTARY INFORMATION: Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012. They may be faxed to the Commission at (213) 894-0508, or emailed to Angelica Trevino at atrevino@usccr.gov. Persons who desire additional information may contact the Regional Programs Unit at (213) 894-3437.

Records and documents discussed during the meeting will be available for public viewing prior to and after the meetings at https://www.facadatabase.gov/FACA/apex/FACAPublicCommittee?id=a10t0000001gzmYAAQ. Please click on the “Committee Meetings” tab. Records generated from these meetings may also be inspected and reproduced at the Regional Programs Unit, as they become available, both before and after the meetings. Persons interested in the work of this Committee are directed to the Commission's website, https://www.usccr.gov, or may contact the Regional Programs Unit at the above email or street address.

Agenda

Opening Remarks and Introductions (12:30 p.m.-12:40 p.m.)

Public Comment (12:40 p.m.-1:15 p.m.)

Panel 1: Academics & Advocates (1:15 p.m.-2:45 p.m.)

Panel 2: Legislators & State Officials (3:00 p.m.-4:30 p.m.)

Public Comment (4:45 p.m.-5:30 p.m.)

Dated: March 11, 2020.
David Mussatt,
Supervisory Chief, Regional Programs Unit.

[FR Doc. 2020-05342 Filed 3-13-20; 8:45 am]

BILLING CODE P